DEPARTMENT OF TRANSPORTATION

Federal Aviation Administration

14 CFR Part 71

[Docket No. FAA-2020-0606; Airspace Docket No. 19-ANM-100]

RIN 2120-AA66

Amendment of Class D and Class E Airspace; Yakima, OR

AGENCY: Federal Aviation Administration (FAA), DOT.

ACTION: Final rule.

SUMMARY: This action modifies Class D airspace at Yakima Air Terminal/McAllister Field Airport. This action also modifies Class E airspace, designated as a surface area. Additionally, this action removes Class E airspace, designated as an extension to a Class D or Class E surface area. Further, this action modifies Class E airspace, extending upward from 700 feet above the surface, and removes the Class E airspace extending upward from 1,200 feet above the surface. This action removes the Yakima VOR from the Class E5 airspace legal description. Lastly, this action implements administrative corrections to the airspaces' legal descriptions

DATES: Effective 0901 UTC, February 25, 2021. The Director of the Federal Register approves this incorporation by reference action under Title 1 Code of Federal Regulations part 51, subject to the annual revision of FAA Order 7400.11 and publication of conforming amendments.

ADDRESSES: FAA Order 7400.11E, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email fedreg.legal@nara.gov or go to https://www.archives.gov/federal-register/cfr/ibr-locations.html.

FOR FURTHER INFORMATION CONTACT: Matthew Van Der Wal, Federal Aviation Administration, Western Service Center, Operations Support Group, 2200 S 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D and Class E airspace at Yakima Air Terminal/McAllister Field Airport, Yakima, WA, to ensure the safety and management of Instrument Flight Rules (IFR) operations at the airport.

History

The FAA published a notice of proposed rulemaking in the Federal Register (85 FR 40140; July 6, 2020) for Docket No. FAA-2020-0606 to modify Class D and Class E airspace at Yakima Air Terminal/McAllister Field Airport, Yakima, WA. Interested parties were invited to participate in this rulemaking effort by submitting written comments on the proposal to the FAA. Two comments in favor of the proposed changes were received.

Class D, E2, E4, and E5 airspace designations are published in paragraphs 5000, 6002, 6004, and 6005, respectively, of FAA Order 7400.11E, dated July 21, 2020, and effective September 15, 2020, which is incorporated by reference in 14 CFR 71.1. The Class E airspace designation listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This amendment to Title 14 Code of Federal Regulations part 71 modifies Class D airspace at Yakima Air Terminal/McAllister Field Airport. The airspace area is described as follows: That airspace extending upward from the surface to and including 3,600 feet MSL within a 4.2-mile radius of the airport, and within 2.6 miles each side of the 103° bearing from the airport, extending from the 4.2-mile radius to 8.8 miles east of the airport, and within 2.3 miles each side of the 289° bearing from the airport, extending from the 4.2-mile radius to 6.9 miles west of Yakima Air Terminal/McAllister Field Airport. This Class D airspace area is effective during the specific dates and times established, in advance, by a Notice to Airmen. The effective date and time will thereafter be continuously published in the Chart Supplement.

This action also modifies Class E airspace, designated as a surface area, to be coincident with the new Class D dimensions. The airspace area is described as follows: That airspace extending upward from the surface within a 4.2-mile radius of the airport, and within 2.6 miles each side of the 103° bearing from the airport, extending from the 4.2-mile radius to 8.8 miles east of the airport, and within 2.3 miles each side of the 289° bearing from the airport, extending from the 4.2-mile radius to 6.9 miles west of Yakima Air Terminal/McAllister Field Airport. This Class E airspace area is effective during the specific dates and times established, in advance, by a Notice to Airmen. The effective date and time will thereafter be continuously published in the Chart Supplement.

Additionally, this action revokes Class E airspace, designated as an extension to a Class D or Class E surface area. This area is not required based on the instrument procedures published for the airport.

Further, this action modifies Class E airspace extending upward from 700 feet above the surface. This airspace area is described as follows: That airspace extending upward from 700 feet above the surface within a 4.2-mile radius of the airport, and within 3.4 miles each side of the 107° bearing from the airport, extending from the 4.2-mile radius to 11.3 miles east of the airport, and within 3.6 miles each side of the 290° bearing from the airport, extending from the 4.2-mile radius to 11.6 miles west of Yakima Air Terminal/McAllister Field Airport.

This action removes Class E airspace extending upward from 1,200 feet above the surface. This area is wholly contained within Class E en route airspace which overlies the entire Yakima area, duplication is not necessary.

The action removes the Yakima VOR and all references to the VOR from the Class E5 legal description. The navigational aid is not needed to define the airspace. Removal of the navigational aid allows the airspace to be defined from a single reference point, which simplifies how the airspace is described.

Lastly, this action implements administrative corrections to the airspaces' legal descriptions. The airport name on the second line of the text header does not match the FAA database and is updated to “Yakima Air Terminal/McAllister Field Airport”. The airport's geographic coordinates do not match the FAA database and are updated to “lat. 46°34′05″ N, long. 120°32′39″ W.” The last sentence in the Class D and Class E surface airspace area's legal descriptions contain outdated verbiage, the term “Airport/Facility Directory” is updated to” Chart Supplement”.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 5000 Class D Airspace.

* * * * *

ANM WA D Yakima, WA [Amended]

Yakima Air Terminal/McAllister Field Airport, WA

(Lat. 46°34′05″ N, long. 120°32′39″ W)

That airspace extending upward from the surface to and including 3,600 feet MSL within a 4.2-mile radius of the airport, and within 2.6 miles each side of the 103° bearing from the airport, extending from the 4.2-mile radius to 8.8 miles east of the airport, and within 2.3 miles each side of the 289° bearing from the airport, extending from the 4.2-mile radius to 6.9 miles west of Yakima Air Terminal/McAllister Field Airport. This Class D airspace area is effective during the specific dates and times established, in advance, by a Notice to Airmen. The effective date and time will thereafter be continuously published in the Chart Supplement.

Paragraph 6002 Class E Airspace Areas Designated as a Surface Area.

* * * * *

ANM WA E2 Yakima, WA [Amended]

Yakima Air Terminal/McAllister Field Airport, WA

(Lat. 46°34′05″ N, long. 120°32′39″ W)

That airspace extending upward from the surface within a 4.2-mile radius of the airport, and within 2.6 miles each side of the 103° bearing from the airport, extending from the 4.2-mile radius to 8.8 miles east of the airport, and within 2.3 miles each side of the 289° bearing from the airport, extending from the 4.2-mile radius to 6.9 miles west of Yakima Air Terminal/McAllister Field Airport. This Class E airspace area is effective during the specific dates and times established, in advance, by a Notice to Airmen. The effective date and time will thereafter be continuously published in the Chart Supplement.

Paragraph 6004 Class E Airspace Areas Designated as an Extension to a Class D or Class E Surface Area.

* * * * *

ANM WA E4 Yakima, WA [Revoked]

Yakima Air Terminal/McAllister Field Airport

(Lat. 46°34′05.4″ N, long. 120°32′39″ W)

Paragraph 6005 Class E Airspace Areas Extending Upward From 700 Feet or More Above the Surface of the Earth.

* * * * *

ANM WA E5 Yakima, WA [Amended]

Yakima Air Terminal/McAllister Field Airport

(Lat. 46°34′05″ N, long. 120°32′39″ W)

That airspace extending upward from 700 feet above the surface within a 4.2-mile radius of the airport, and within 3.4 miles each side of the 107° bearing from the airport, extending from the 4.2-mile radius to 11.3 miles east of the airport, and within 3.6 miles each side of the 290° bearing from the airport, extending from the 4.2-mile radius to 11.6 miles west of Yakima Air Terminal/McAllister Field Airport.

Issued in Seattle, Washington, on September 29, 2020.
B.G. Chew,
Acting Group Manager, Western Service Center, Operations Support Group.

[FR Doc. 2020-21905 Filed 10-2-20; 8:45 am]

BILLING CODE 4910-13-P